DEPARTMENT OF THE INTERIOR

[233D0102DM, DS6CS00000, DLSN00000.000000, DX.6CS25, DX6CS25, OMB Control No. 1093-0010]

Agency Information Collection Activities; Submission to the Office of Management and Budget (OMB) for Review and Approval; Youth Conservation Corps Application and Medical History

AGENCY: Office of the Secretary, Interior.

ACTION: Notice of information collection; request for comment.

SUMMARY: In accordance with the Paperwork Reduction Act of 1995, we, the Department of the Interior (Interior), are proposing to renew an information collection.

DATES: Interested persons are invited to submit comments on or before June 5, 2023.

ADDRESSES: Send your comments on this ICR by mail to Jeffrey Parrillo, Departmental Information Collection Clearance Officer, 1849 C Street NW, Washington, DC 20240; or to Jeffrey_Parrillo@ios.doi.gov (email); or by at 202-208-7072 (telephone). Please reference OMB Control Number 1093-0010 in the subject line of your comments.

FOR FURTHER INFORMATION CONTACT: To request additional information about this ICR by mail, contact George McDonald, Youth Programs Manager, Washington DC Area Support Office (WASO) or by email at george_mcdonald@nps.gov; or by telephone at (202) 208-3329. Please reference OMB Control Number 1093-0010 in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provides the requested data in the desired format.

We are soliciting comments on the proposed ICR that is described below. We are especially interested in public comment addressing the following issues: (1) is the collection necessary to the proper functions of the National Park Service (NPS); (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Youth Conservation Corps (YCC) is a summer youth employment program that engages young people in meaningful work experiences at national parks, forests, wildlife refuges, and fish hatcheries while developing an ethic of environmental stewardship and civic responsibility. YCC programs are generally eight to ten weeks and members are paid at least the state or federal minimum wage (whichever is higher) for a 40-hour work week. YCC opportunities provide paid daytime work activities with members who commute to the federal unit daily. Authorized by the Youth Conservation Corps Act of August 13, 1970, as amended (U.S. 1701-1706), participating agencies (National Park Service, U.S. Fish and Wildlife Service, Forest Service) use common forms: DI-4014, “Youth Conservation Corps Application” and DI-4015, “Youth Conservation Corps Medical History” to collect information to determine the eligibility of each youth for employment with the YCC. Parents or guardians must sign both forms if the applicant is under 18 years of age.

Title of Collection: Youth Conservation Corps Application and Medical History Form.

OMB Control Number: 1093-0010.

Form Number: DI-4014, “Youth Conservation Corps Application,” and DI-4015, “Youth Conservation Corps Medical History Form.”

Type of Review: Renewal of a currently approved collection.

Respondents/Affected Public: Youth 15 through 18 years old seeking seasonal employment in the YCC Program.

Total Estimated Number of Annual Respondents: 11,409 (8,599/application 2,810/medical history).

Estimated Completion Time per Response: 25 minutes/application and 14 minutes/medical history form.

Total Estimated Number of Annual Burden Hours: 4,239 hours (3,583 hours/application and 656 hours/medical history forms).

Respondent's Obligation: Required to obtain or retain a benefit.

Frequency of Collection: On occasion.

Total Estimated Annual Non-hour Burden Cost: None.

An agency may not conduct, or sponsor, and a person is not required to respond to a collection of information unless it displays a currently valid OMB control number.

The authority for this action is the Paperwork Reduction Act of 1995 (44 U.S.C. 3501 et seq.).

Jeffrey Parrillo,
Departmental Information Collection Clearance Officer.

[FR Doc. 2023-07218 Filed 4-5-23; 8:45 am]

BILLING CODE 4334-63-P